Title 3—

The President

Presidential Determination No. 2005-04 of October 20, 2004

Presidential Determination on Use of Cooperative Threat

Reduction Funds in Albania under Section 1308 of the National Defense Authorization Act for Fiscal Year 2004

Memorandum for the Secratary of State

Pursuant to the authority vested in me by section 1308 of the National Defense Authorization Act for Fiscal Year 2004 (Public Law 108-136) (the “Act”), I hereby determine that the obligation and expenditure of Cooperative Threat Reduction (CTR) funds for the destruction of chemical warfare agents stockpiled in Albania, will permit the United States to take advantage of an opportunity to achieve long-standing nonproliferation goals. I also determine that this project to destroy the chemical warfare agents stockpiled in Albania will be completed within a short period of time and that the Department of Defense is the entity of the Federal Government that is most capable of carrying out this project.

You are authorized and directed to transmit this determination, along with the justification and project description required by section 1308(d)(2) of the Act, to the Congress no later than 10 days after the obligation of funds for this project and to arrange for the publication of this memorandum in the Federal Register.

B

THE WHITE HOUSE,

Washington, October 20, 2004.

[FR Doc. 04-24301

Filed 10-27-04; 9:31 am]

Billing code 4710-10-P